DEPARTMENT OF AGRICULTURE

Forest Service

Humboldt-Toiyabe National Forest, Carson Ranger District, Nevada and California, Bordertown to California 120 kV Transmission Line

AGENCY: Forest Service, USDA.

ACTION: Notice of intent to prepare an Environmental Impact Statement (EIS).

SUMMARY: The Forest Service will prepare an EIS to determine and analyze the effects of the proposed Bordertown 120 kilovolt (kV) Transmission Line project on people and the environment. The project would consist of the construction and operation of approximately 10 miles of new 120 kV overhead transmission line between NV Energy's existing Bordertown and California Substations. To accommodate the new transmission line, the project would also include improvements to both substations. The majority of the route would cross National Forest System land managed by the Forest Service, with shorter segments crossing private land and public land managed by the Bureau of Land Management (BLM).

DATES: Comments concerning the scope of the analysis must be received by 71 days from date of publication in the Federal Register. The draft environmental impact statement is expected April 2013 and the final environmental impact statement is expected December 2013.

ADDRESSES: Written comments or resource information can be submitted by any of the following methods:

• Email comments to: comments-intermtn-humboldt-toiyabe@fs.fed.us.

• U.S. Mail address: Humboldt-Toiyabe National Forest, Bordertown to California 120 kV Transmission Line, 1200 Franklin Way, Sparks NV 89431.

• Hand delivery: 1200 Franklin Way, Sparks, NV 89431, Monday-Friday, 8 a.m.-4:30 p.m., excluding Federal holidays.

• Fax comments to: (775) 355-5399, please include a cover sheet and include “Bordertown to California 120 kV Transmission Line” in the subject line.

FOR FURTHER INFORMATION CONTACT: For further information and/or to have your name added to our mailing list, please contact Marnie Bonesteel, Humboldt-Toiyabe National Forest, (775) 352-1240, mbonesteel@fs.fed.us. Individuals who use telecommunication devices for the deaf (TDD) may call the Federal Information Relay Service (FIRS) at 1-(800) 877-8339 between 8 a.m. and 8 p.m. Eastern Time, Monday through Friday.

SUPPLEMENTARY INFORMATION:

Purpose and Need for Action

The purpose of the project is to provide reliable bulk transmission capacity to west Reno consistent with NERC Standard TPL-003-0. Load growth in the Reno area, particularly on the west side, has created bulk electrical transmission problems. Almost all of the power generation in the Reno 120 kV system is on the east side of Reno. The North Valley Road 345/120 kV Substation in north central Reno is currently used to move power through a network of 120 kV lines to the west side. During periods of heavy load, loss of one line in the network could overload the remaining lines, causing a failure that could result in outages in west Reno.

Proposed Action

The Forest Service proposes to authorize construction and operation of approximately 10 miles of new 120 kV overhead transmission line between NV Energy's Bordertown and California Substations (Stateline alignment). To accommodate the new transmission line, the project would also include improvements to both substations. Improvements include the installation of a 345/120 kV transformer and a 120 kV line terminal at Bordertown Substation and rearrangment of existing 120 kV terminals at California Substation. The majority of the route (approximately 7 miles) would cross National Forest System land, with shorter segments crossing private land (approximately 2.5 miles) and public land managed by BLM (approxomately 0.50 mile).

Alternatives

The Forest Service will evaluate a No Action Alternative, under which the Forest Service would not authorize a special use permit for construction of a transmission line. In addition, three alternative transmission alignments that would connect the Bordertown and California substations are being considered (Mitchell, Peavine and Poeville). The Mitchell alignment crosses an area previously disturbed by wildland fire and uses existing transmission corridors. The Peavine alignment crosses through big sagebrush vegetation and is the most visually sensitive alignment for approximately 0.50 mile of the route. The Poeville alignment takes advantage of routing within existing transmission line corridors and reduces the total miles crossing National Forest System land. The Poeville alignment would be the longest route. Other alternatives may be developed in response to issues identified during scoping.

Lead and Cooperating Agencies

The Forest Service is the lead federal agency for the NEPA analysis process and preparation of the EIS. Cooperating agencies identified at this time include: Bureau of Land Management, Washoe County, City of Reno, Truckee Meadows Planning Agency and the Nevada Department of Wildlife.

Responsible Official

Humboldt-Toiyabe Forest Supervisor.

Nature of Decision To Be Made

The Forest Supervisor will decide whether or not to authorize a 50 year term Special Use Permit for the construction, operation, and maintenance of the Bordertown 120 kV transmission line on National Forest System land. Decisions regarding public land managed by the BLM will be made by the BLM.

Preliminary Issues

Through public scoping, the Forest Service expects to identify relevant issues, potential impacts, design/mitigation measures, and alternatives to the proposed action. At present, the Forest Service has identified the following preliminary concerns:

• Potential effects to visual resources and existing viewsheds as a result of power line structures visable from Bordertown and California substations.

• Potential effects to Dog Valley and Webber Ivesia, Forest Service sensitive plants, from potential introduction and spread of noxious and invasive weeds.

• Potential for introduction and spread of noxious and invasive weed species, including known populations of medusahead grass and bull thistle from construction of temporary roads.

• Ability to reclaim temporary roads and areas disturbed by the project using native plant species due to the proliferation of cheatgrass and bulbous blue grass in the area.

• Potential effects to historic properties, including the National Historic Emigrant trail and an historic railroad grade due to the installation of powerline structures changing the visual setting of the area.

• Potential for off-highway motor vehicle use to occur on temporary roads constructed for the project.

• Potential temporary effects to the Mitchell Canyon mule deer wintering area due to construction activities.

• Potential loss or reduction of large diameter trees and trees planted after the Mitchell Canyon fire due to construction of the powerline corridor.

• Potential need to protect powerlines from wildland fire due to hazardous fuel conditions adjacent to project area.

• Potential for altering the general forested character and setting from a change in land use by granting a permanent easement for the powerline.

Permits or Licenses Required

Other permits required by NV Energy to construct the project include, but are not limited to the following: Sierra County, Special Use Permit; Washoe County Special Use Permit; Washoe County Air Quality Management Division, Surface Area Disturbance Permit; Bureau of Land Management Right of Way grant; Lahontan Regional Water Quality Control Board, National Pollutant Dishcharge Elimination System (NPDES) Construction Storm Water General Permit for Linear Projects; and Nevada Division of Environmental Protection, NPDES Stormwater General Permit for Construction.

Scoping Process

This notice of intent initiates the scoping process, which guides the development of the EIS. To provide the public an opportunity to review the proposal and project information, the Forest Service will hold at least two meetings. Meetings will be conducted in an “open house” format and will include displays explaining the project and provide a forum for commenting on the project. Meetings are currently planned for Bordertown/Cold Springs and Verdi, Nevada.

1. December 6th, 2011 4:30-6:30 p.m., Cold Springs Regional Park, Grand Room 3355 White Lake Parkway in Cold Springs, Nevada 89508.

2. December 8th, 2011 4:30—6:30 p.m., Verdi Elementary School, 250 Bridge Street, Verdi, Nevada 89523.

It is important that reviewers provide their comments at such times and in such a manner that they are useful to the agency's preparation of the EIS. Therefore, comments should be provided prior to the close of the comment period and should clearly articulate the reviewer's concerns and contentions. Comments received in response to this solicitation, including names and addresses of those who comment, will be part of the public record for this proposed action (40 CFR 1501.7 and 1508.22, FS Handbook 1909.15 Section 21).

Dated: November 10, 2011.
Jeanne M. Higgins,
Forest Supervisor.

[FR Doc. 2011-29797 Filed 11-18-11; 8:45 am]

BILLING CODE 3410-11-P